DEPARTMENT OF HEALTH AND HUMAN SERVICES

Centers for Disease Control and Prevention

Advisory Committee on Immunization Practices (ACIP)

In accordance with section 10(a)(2) of the Federal Advisory Committee Act (Pub. L. 92-463), the Centers for Disease Control and Prevention (CDC) announce the following federal committee meeting.

Times and Dates:

8 a.m.—5:30 p.m., February 22, 2012

8 a.m.—1 p.m., February 23, 2012

Place: CDC, Tom Harkin Global Communications Center, 1600 Clifton Road, NE., Building 19, Kent “Oz” Nelson Auditorium, Atlanta, Georgia 30333.

Status: Open to the public, limited only by the space available.

Purpose: The committee is charged with advising the Director, CDC, on the appropriate uses of immunizing agents. In addition, under 42 U.S.C. 1396s, the committee is mandated to establish and periodically review and, as appropriate, revise the list of vaccines for administration to vaccine-eligible children through the Vaccines for Children (VFC) program, along with schedules regarding the appropriate dose, administration interval, age groups and contraindications applicable to the vaccines. Further, under provisions of the Affordable Care Act, at section 2713 of the Public Health Service Act, immunization recommendations of the ACIP that have been adopted by the Director of the Centers for Disease Control and Prevention must be covered by applicable health plans.

Matters To Be Discussed: The agenda will include discussions on: meningococcal vaccine, hepatitis B vaccine, tetanus, diphtheria, and acellular pertussis (Tdap) vaccine, influenza, vaccine supply, 13-valent pneumococcal conjugate vaccine, and measles-mumps-rubella (MMR) vaccine. A VFC vote is scheduled for meningococcal vaccines. Recommendation votes are scheduled for meningococcal vaccines and for Tdap vaccine. Time will be available for public comment.

Agenda items are subject to change as priorities dictate.

The Meeting is webcast live via the World Wide Web; for instructions and more information on ACIP please visit the ACIP Web site: http://www.cdc.gov/vaccines/recs/acip/.

Contact Person for More Information: Stephanie B. Thomas, National Center for Immunization and Respiratory Diseases, CDC, 1600 Clifton Road, NE., MS-A27, Atlanta, Georgia 30333, telephone 404 639-8836; Email ACIP@CDC.GOV.

The Director, Management Analysis and Services Office, has been delegated the authority to sign Federal Register notices pertaining to announcements of meetings and other committee management activities for both the Centers for Disease Control and Prevention and the Agency for Toxic Substances and Disease Registry.

Dated: January 25, 2012.
Elaine L. Baker,
Director, Management Analysis and Services Office, Centers for Disease Control and Prevention.

[FR Doc. 2012-2140 Filed 1-31-12; 8:45 am]

BILLING CODE 4160-18-P